INTERNATIONAL TRADE COMMISSION

[Inv. No. 337-TA-434]

In the Matter of Certain Magnetic Resonance Injection Systems and Components Thereof; Notice of Decision to Extend the Deadline for Determining Whether To Review an Initial Determination Granting a Motion for Summary Determination of Invalidity

AGENCY: International Trade Commission.

ACTION: Notice.

SUMMARY: Notice is hereby given that the U.S. International Trade Commission has determined to extend the deadline for determining whether to review an initial determination (ID) (Order No. 16) issued by the presiding administrative law judge (ALJ) in the above-captioned investigation until 30 days after it has ruled on a motion filed by complainant to stay the investigation.

FOR FURTHER INFORMATION CONTACT: Jean Jackson, Esq., Office of the General Counsel, U.S. International Trade Commission, 500 E Street, SW., Washington, DC 20436, telephone (202) 205-3104. Hearing-impaired persons are advised that information on this matter can be obtained by contacting the Commission's TDD terminal on 202-205-1810. General information concerning the Commission may also be obtained by accessing its Internet server (http://www.usitc.gov).

SUPPLEMENTARY INFORMATION: The Commission instituted this investigation on May 26, 2000, based on a complaint filed by Medrad, Inc. of Indianola, Pennsylvania. The complaint alleged a violation of section 337 of the Tariff Act of 1930, 19 U.S.C. 1337, based on infringement of U.S. Letters Patent Re. 36,648, (the ‘648 patent) owned by complainant. The respondents named in the investigation are Nemoto Kyorindo Co., Ltd. of Tokyo, Japan; Liebel-Flarshiem Co. of Cincinnati Ohio; and Mallinckrodt Inc., of Hazelwood, Mo. 65 FR 34231. On September 26, 2000, the ALJ issued an ID finding the ‘648 patent invalid due to certain omissions that occurred during patent reissue proceedings at the U.S. Patent and Trademark Office. On request of the parties, the ALJ suspended the procedural schedule of the investigation while the ID was before the Commission. Petitions for review of the ID were filed on October 6, 2000, by complainant and by the Commission investigative attorney. Responses were filed on October 19, 2000. On October 16, 2000, the Commission determined to extend the date for determining whether to review the ID until December 6, 2000. 65 FR 63096 (October 20, 2000). On November 17, 2000, complainant Medrad filed a motion to stay the investigation pending completion of reissue proceedings before the U.S. Patent and Trademark Office. Medrad argued that the reissue proceedings would rectify the defect found by the ALJ.

This action is taken under the authority of section 337 of the Tariff Act of 1930, 19 U.S.C. 1337, and section 210.42(h)(3) of the Commission of Practice and Procedure, 19 CFR 210.42(h)(3).

Copies of the nonconfidential version of the ID and all other nonconfidential documents filed in connection with this investigation are or will be available for inspection during official business hours (8:45 a.m. to 5:15 p.m.) in the Office of the Secretary, U.S. International Trade Commission, 500 E Street SW., Washington, DC 20436, telephone 202-205-2000. Copies of these documents may also be downloaded from the Commission's Internet server at (http://www.usitc.gov). Hearing impaired persons are advised that information on this matter can be obtained by contacting the Commission TDD terminal on 202-205-1810.

Issued: November 27, 2000.
By order of the Commission.
Donna R. Koehnke,
Secretary.

[FR Doc. 00-30674 Filed 11-30-00; 8:45 am]

BILLING CODE 7020-02-P